NATIONAL LABOR RELATIONS BOARD

29 CFR Part 103

RIN 3142-AA15

Jurisdiction—Nonemployee Status of University and College Students Working in Connection With Their Studies

AGENCY: National Labor Relations Board.

ACTION: Withdrawal of proposed rulemaking.

SUMMARY: This document withdraws a proposed rule that was published in the Federal Register on September 23, 2019, as corrected on October 16, 2019. The proposed rule would have established that students who perform any services for compensation, including, but not limited to, teaching or research, at a private college or university in connection with their studies are not “employees” within the meaning of the National Labor Relations Act.

DATES: As of March 15, 2021, the proposed rule published on September 23, 2019, at 84 FR 49691, and corrected on October 16, 2019, at 84 FR 55265, is withdrawn.

FOR FURTHER INFORMATION CONTACT: Roxanne L. Rothschild, Executive Secretary, National Labor Relations Board, 1015 Half Street SE, Washington, DC 20570-0001, (202) 273-1940 (this is not a toll-free number), 1-866-315-6572 (TTY/TDD).

SUPPLEMENTARY INFORMATION: The National Labor Relations Board is withdrawing the notice of proposed rulemaking that was published in the Federal Register on September 23, 2019 (84 FR 49691), and corrected on October 16, 2019 (84 FR 55265). The document proposed a rule establishing that students who perform any services for compensation, including, but not limited to, teaching or research, at a private college or university in connection with their studies are not “employees” within the meaning of Section 2(3) of the National Labor Relations Act. The Board has decided to withdraw this rulemaking proceeding based on its judgment respecting the most effective allocation of the Board's limited resources at this time. In light of competing agency priorities, the Board has determined to focus its time and resources on the adjudication of cases currently in progress.

Dated: Washington, DC, March 9, 2021.
By direction of the Board.
Roxanne L. Rothschild,
Executive Secretary.

[FR Doc. 2021-05184 Filed 3-12-21; 8:45 am]

BILLING CODE 7545-01-P